DEPARTMENT OF THE INTERIOR

Office of the Secretary

[FWS-R8-FHC-2016-N196; FXFR1334088TWG0W4-123-FF08EACT00]

Renewal of the Trinity River Adaptive Management Working Group

AGENCY: Office of the Secretary, Interior.

ACTION: Notice.

SUMMARY: The Secretary of the Interior (Secretary), after consultation with the General Services Administration, has renewed the Trinity River Adaptive Management Working Group (Working Group) for 2 years. The Working Group provides recommendations on all aspects of the implementation of the Trinity River Restoration Program and affords stakeholders the opportunity to give policy, management, and technical input concerning Trinity River restoration efforts.

ADDRESSES: For more information on the Trinity River Adaptive Management Working Group and the Trinity River Restoration Program, see https://www.fws.gov/arcata/fisheries/tamwg.html and http://www.trrp.net/.

FOR FURTHER INFORMATION CONTACT: Joseph Polos, U.S. Fish and Wildlife Service, 1655 Heindon Road; Arcata, CA 95521; 707-822-7201.

SUPPLEMENTARY INFORMATION: The Working Group conducts its operations in accordance with the provisions of the Federal Advisory Committee Act (5 U.S.C. Appendix). It reports to the Trinity River Management Council (TMC) and functions solely as an advisory body. The TMC reports to the Secretary through the Mid-Pacific Regional Director of the Bureau of Reclamation and the Pacific Southwest Regional Director for the U.S. Fish and Wildlife Service. The Working Group provides recommendations and advice to the TMC on: (1) The effectiveness of management actions in achieving restoration goals and alternative hypotheses (methods and strategies) for study, (2) the priority for restoration projects, (3) funding priorities, and (4) other components of the Trinity River Restoration Program.

We have filed a copy of the Working Group's charter with the Committee Management Secretariat, General Services Administration; the Committee on Environment and Public Works, United States Senate; the Committee on Natural Resources, United States House of Representatives; and the Library of Congress.

Certification

I hereby certify that the Trinity River Adaptive Management Working Group is necessary and in the public interest in connection with the performance of duties imposed on the Department of the Interior by Public Laws 84-386 and 96-335 (Trinity River Stream Rectification Act), 98-541 and 104-143 (Trinity River Basin Fish and Wildlife Management Act of 1984), and 102-575 (Central Valley Project Improvement Act). The Working Group will assist the Department of the Interior by providing advice and recommendations on all aspects of implementation of the Trinity River Restoration Program.

Dated: December 13, 2016.
Sally Jewell,
Secretary of the Interior.

[FR Doc. 2017-00983 Filed 1-17-17; 8:45 am]

BILLING CODE 4333-15-P